DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than February 9, 2004.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Debra Steward, Office of Information Technology and Productivity Improvement, RAD-20, Federal Railroad Administration, 1120 Vermont Ave., NW., Mail Stop 35, Washington, DC 20590. Commenters requesting FRA to acknowledge receipt of their respective comments must include a self-addressed stamped postcard stating, “Comments on OMB control number __.” Alternatively, comments may be transmitted via facsimile to (202) 493-6230 or (202) 493-6170, or e-mail to Mr. Brogan at robert.brogan@fra.dot.gov, or to Ms. Steward at debra.steward@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 25, Washington, DC 20590 (telephone: (202) 493-6292) or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law 104-13, 2, 109 Stat. 163 (1995) (codified as revised at 44 U.S.C. 3501-3520), and its implementing regulations, 5 CFR. Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. § 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of the three currently approved information collection activities that FRA will submit for clearance by OMB as required under the PRA:

Title: Track Safety Standards (Gage Restraint Measurement Systems Amendment).

OMB Control Number: 2130-0010.

Abstract: Qualified persons inspect track and take action to allow safe passage of trains and ensure compliance with prescribed Track Safety Standards. FRA amended the Track Safety Standards to provide procedures for track owners to use Gage Restraint Measurement Systems (GRMS) to assess the ability of their track to maintain proper gage. Under the current Track Safety Standards, track owners must evaluate a track's gage restraint capability through visual inspections conducted at frequencies and intervals specified in the standards. With this amendment, track owners may monitor gage restraint on a designated track segment using GRMS procedures. Individuals employed by the track owner to inspect track must be permitted to exercise their discretion in judging whether the track segment should also be visually inspected by a qualified track inspector.

Form Number(s): None.

Affected Public: Businesses.

Respondent Universe: 685 railroads.

Frequency of Submission: On occasion.

Affected Public: Businesses.

Reporting Burden:

CFR section | Respondent universe (railroads) | Total annual responses | Average time per response | Total annual burden hours | Total annual burden cost
213.14—Excepted Track | 160 | 25 orders | 15 minutes | 6 | $228
—Notification to FRA—Removal of Track Segment From Excepted Statutes | 160 | 20 notifications | 10 minutes | 3 | 114
213.5—Responsibility of Track Owners—Assignment | 685 | 12 notifications | 8 hours | 96 | 3,648
213.7—Designation of Qualified Persons to Supervise Certain Renewals and Inspect Track | 685 | 1,500 names | 10 minutes | 250 | 9,500
—Designations (Partially Qualified under Paragraph c) | 31 | 250 names | 10 minutes | 42 | 1,596
213.17—Exeptions | 685 | 8 petitions | 24 hours | 192 | 7,296
213.57—Curves; Elevations & Speed Limits | 685 | 4 requests | 40 hours | 160 | 6,080
—Notification to FRA | 685 | 2 notifications | 45 minutes | 2 | 76
—Requests for FRA Approval—Test Plans | 1 | 4 test plans | 16 hours | 64 | 2,432
213.110—Gage Restraint Meas. Syts.—Implementing | 685 | 40 notifications + 4 tech. rpts | 45 minutes/4 hrs | 46 | 1,748 46,250
GRMS Output Reports | 685 | 150 reports | 5 minutes | 13 | 494
—GRMS Exception Reports | 685 | 150 reports | 5 minutes | 13 | 494
—Procedures For Maintaining GRMS Data | 685 | 10 doc. proc. | 2 hours | 20 | 760
—GRMS Training | 685 | 10 training prog. + 25 tr. sessions | 16 hours | 560 | 21,280
—GRMS Inspections—Two Most Recent Records | 685 | 200 records | 2 hours | 400 | 15,200
213.119—Continuous Weld Rail (CWR)—Records | 150 | 3,000 records | 10 minutes | 500 | 19,500
213.233—Track Inspections By Person/Vehicle—Rcds | 685 | 2,500 notations | 1 minute | 42 | 1,260
213.241—Inspection Records | 685 | 20,000 | 5 minutes | 1,763,941 | 52,918,230
213.303—Responsibility for Compliance—High Speed Track: Assignment of Responsibility | 2 | 1 petition | 8 hours | 8 | 304
213.305—Designation of Fully Qualified Individuals | 2 | 150 designations | 10 minutes | 25 | 950
—Designation of Partially Qualified Individuals | 2 | 15 designations | 10 minutes | 3 | 114
213.317—Exemption From Any/All Requirements | 2 | 1 | 24 hours | 24 | 912
213.329—Curves, Elevation, and Higher Speed Limits | 2 | 3 notifications | 40 hours | 120 | 4,560
—Passenger/Commuter Service Over More Than 1 Trk. | 2 | 3 notifications | 45 minutes | 2 | 76
213.333—Track Geometry Measurement Sys.—Rpts. | 3 | 18 reports | 20 hours | 360 | 10,800
—Track/Vehicle Measurement Perf. Sys.—Procedures | 1 | 1 written proc | 8 hours | 8 | 304
—Exception Printouts | 2 | 13 printouts | 20 hours | 260 | 7,800
213.341—Initial Inspection—New Rail/Welds Mill Insp | 2 | 2 reports | 8 hours | 16 | 608
—Welding Plant Inspection | 2 | 2 reports | 8 hours | 16 | 608
—Inspection of Field Welds—Records | 2 | 200 records | 20 minutes | 67 | 2,546
213.343—Continuous Weld Rail—History—Records | 2 | 200 records | 10 minutes | 33 | 1,254
213.345—Vehicle Qualification Testing—Results/Rcds | 1 | 2 reports | 16 hours | 32 | 1,216
213.14—Excepted Track | 160 | 25 orders | 15 minutes | 6 | 228
—Notification to FRA—Removal of Track Segment From Excepted Statues | 160 | 20 notifications | 10 minutes | 3 | 114
213.5—Responsibility of Track Owners—Assignment | 685 | 12 notifications | 8 hours | 96 | 3,648
213.7—Designation of Qualified Persons to Supervise Certain Renewals and Inspect Track | 685 | 1,500 names | 10 minutes | 250 | 9,500
—Designations (Partially Qualified under Paragraph c) | 31 | 250 names | 10 minutes | 42 | 1,596
213.17—Excemptions | 685 | 8 petitions | 24 hours | 192 | 7,296
213.57—Curves; Elevations & Speed Limits | 865 | 4 requests | 40 hours | 160 | 6,080
—Notification to FRA | 685 | 2 notifications | 45 minutes | 2 | 76
—Requests for FRA Approval—Test Plans | 1 | 4 test plans | 16 hours | 64 | 2,432
213.110—Gage Restraint Meas. Sys.—Implementing | 685 | 40 notifications + 4 tech rpts | 45 minutes/4 hrs | 46 | 1,748 46,250
—GRMS Output Reports | 685 | 150 reports | 5 minutes | 13 | 494
—GRMS Exception Reports | 685 | 150 reports | 5 minutes | 13 | 494
—Procedures For Maintaining GRMS Data | 685 | 10 doc. proc. | 2 hours | 20 | 760
—GRMS Training | 685 | 10 training prog. + 25 tr. sessions | 16 hours | 560 | 21,280
—GRMS Inspections—Two Most Recent Records | 685 | 200 records | 2 hours | 400 | 15,200
213.119—Continuous Weld Rail (CWR)—Records | 150 | 3,000 records | 10 minutes | 500 | 19,500
213.233—Track Inspections By Person/Vehicle—Rcds | 685 | 2,500 notifications | 1 minute | 42 | 1,260
213.241—Inspection Records | 685 | 20,000 records | 5 minutes | 1,763,941 | 52,918,230
213.303—Responsibility for Compliance—High Speed Track; Assignment of Responsibility | 2 | 1 petition | 8 hours | 8 | 304
213.347—Automotive or RR Crossing at Grade—Plans | 1 | 2 plans | 8 hours | 16 | 608
213.353—Turnouts and Crossovers | 1 | 1 guide book | 40 hours | 40 | 1,520
213.361—Right of Way—Class 8 & 9—Plan Approv. | 1 | 1 plan | 40 hous | 40 | 1,520
213.369—Inspection Records | 2 | 500 records | 1 minute | 8 | 240
213.369—Inspection Records | 2 | 500 records | 1 | 8 | 240
—Designation records | 2 | 2 designations | 15 minutes | 1 | 38
—Inspection Records of Defects and Remedial Actions | 2 | 50 records | 5 minutes | 4 | 120

Total Responses: 1,635,052.

Total Estimated Total Annual Burden: 1,767,433 hours.

Type of Request: Extension of a Currently Approved Collection.

Title: Special Notice For Repairs.

OMB Control Number: 2130-0504.

Abstract: The Special Notice For Repairs is issued to notify the carrier in writing of an unsafe condition involving a locomotive, car, or track. The carrier must return the form after repairs have been made. The collection of information is used by State and Federal inspectors to remove freight car or locomotives until they can be restored to a serviceable condition. It is also used by State and Federal inspectors to reduce the maximum authorized speed on a section of track until repairs can be made.

Form Number(s): FRA F 6180.8; FRA F 6180.8a.

Affected Public: Businesses.

Respondent Universe: 685 railroads.

Frequency of Submission: On occasion.

Total Responses: 58.

Total Estimated Annual Burden: 7 hours.

Type of Request: Extension of a currently approved collection.

Title: Designation of Qualified Persons.

OMB Control Number: 2130-0511.

Abstract: The collection of information is used to prevent the unsafe movement of defective freight cars. Railroads are required to inspect freight cars for compliance and to determine restrictions on the movements of defective cars.

Form Number(s): None.

Affected Public: Businesses.

Respondent Universe: 685 railroads.

Frequency of Submission: On occasion.

Total Estimated Annual Burden: 40 hours.

Total Responses: 1,200.

Type of Request: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on December 5, 2003.
Maryann Johnson,
Acting Director, Office of Information Technology and Support Systems, Federal Railroad Administration.

[FR Doc. 03-30652 Filed 12-10-03; 8:45 am]

BILLING CODE 4910-06-P